ENVIRONMENTAL PROTECTION AGENCY

[ER-FRL-6661-2]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-AFS-G65095-NM Rating LO, Buckman Water Diversion Project, Proposal to Divert Water from Rio Grande and San Juan-Chama Project, To Meet Water Supply Needs, Sante Fe National Forest and Taos Field Office, Sante Fe County, NM.

Summary: EPA does not object to the preferred alternative.

ERP No. D-BLM-L65471-ID Rating EC2, Fire, Fuels and Related Vegetation Management Direction Plan Amendment, Upper Snake River District (The District), Amending 12 Existing Land Use Plans, Several Counties, ID.

Summary: EPA expressed concerns about air quality and grazing impacts, and requested additional information on acute and chronic effects of chemical treatments.

ERP No. D-FHW-E40802-MS Rating EC1, I-69 Section of Independent Utility #11 Project, Construction of Multi-Lane, Interstate Highway from Benoit to Robinsonville, US. Army COE Section 404 Permit, Mississippi River Bridge, Bolivar, Coahoma, Tunica and Sunflower Counties, MS.

Summary: EPA expressed environmental concerns about the proposed project related to water resource impacts (wetlands, streams, and floodplains), land use change/habitat loss, and refining mitigation commitments.

ERP No. D-FHW-H50002-NE Rating LO, Bellevue Bridge Study, To Improve Connectivity between the Omaha Metropolitan Area and across the Missouri River from U.S. 75 to I-29, Coast Guard Permit, NPDES Permit, U.S. Army COE

Section 10 and 404 Permits, Mills County, IA and Sarpy County, NE.

Summary: EPA does not object to the proposed project.

ERP No. D-UAF-G11053-NM Rating LO, New Mexico Training Initiative, Proposal to Modify the Training Airspace New Cannon Air Force Base (AFB), NM.

Summary: EPA does not object to the proposed action.

ERP No. D-USN-E11054-FL Rating EC2, Navy Air-To-Ground Training at Avon Park Air Force Range, To Conduct Air-to-Ground Ordnance Delivery and Training, Fleet Forces Command's Fleet Readiness Training Program (FRTP), Polk and Highlands Counties, FL.

Summary: EPA expressed environmental concerns about wetland and noise impacts.

ERP No. DA-ICC-J53004-MT Rating EC2, Tongue River Railroad Construction and Operation of the Proposed Western Alignment Tongue River III Southernmost Portion of the 41-mile Ashland to Decker Alignment, Rosebud and Bighorn Counties, MT.

Summary: EPA expressed concern about water quality, wetlands, Tribal Trust resources, and indirect/cumulative environmental impacts, and requested additional information, data, analysis, and discussion related to these issues be included in the final EIS.

Final EISs

ERP No. F-IBR-K39085-CA San Joaquin River Exchange Contractors Water Authority—2005 to 2014, Water Transfer Program, Stanislaus, San Joaquin, Merced, Madera, Fresno, San Benito, Santa Clara, Kern, and Kings Counties, CA.

Summary: EPA expressed continuing concerns about impacts on water quality, flow, and beneficial uses and the relationship to proposed water quality improvement measures.

ERP No. F-NPS-G65017-TX Rio Grande Wild and Scenic River General Management Plan, Implementation, Big Bend National Park, Brewster and Terrell Counties, TX.

Summary: No formal comment letter was sent to the preparing agency.

ERP No. FS-FHW-E40325-NC Western Section of the Winston-Salem Northern Beltway, U.S. 158 north to U.S. 52, TIP Nos. R-2247, Forsyth County, NC.

Summary: EPA continues to express concern due to aquatic stream habitat impacts, water supply, watershed impacts, and residential relocation impacts.

Dated: March 1, 2005.
Robert W. Hargrove,
Director, NEPA Compliance Division, Office of Federal Activities.

[FR Doc. 05-4254 Filed 3-3-05; 8:45 am]

BILLING CODE 6560-50-P